DEPARTMENT OF THE INTERIOR

National Park Service

National Register of Historic Places; Notification of Pending Nominations

Nominations for the following properties being considered for listing in the National Register were received by the National Park Service before November 20, 2004. Pursuant to § 60.13 of 36 CFR Part 60 written comments concerning the significance of these properties under the National Register criteria for evaluation may be forwarded by United States Postal Service, to the National Register of Historic Places, National Park Service, 1849 C Street, NW., 2280, Washington, DC 20240; by all other carriers, National Register of Historic Places, National Park Service, 1201 Eye Street, NW., 8th floor, Washington DC 20005; or by fax, (202) 371-6447. Written or faxed comments should be submitted by December 29, 2004.

Carol D. Shull,
Keeper of the National Register of Historic Places.

IOWA

Black Hawk County

Emerson School, (Waterloo MPS), 314 Randolph St., Waterloo, 04001403

Roosevelt Elementary School, 200 E. Arlington St., Waterloo, 04001402

Whittier School, (Waterloo MPS), 1500 Third St. W, Waterloo, 04001400

Pottawattamie County

Norton, Charles Henry and Charlotte, House, 401 N. Chestnut St., Avoca, 04001401

MARYLAND

Baltimore Independent City

Hampden Historic District, Roughly bounded by Jones Falls, W. 40th St. and Wyman Park, Baltimore (Independent City), 04001405

Frederick County

Airview Historic District, 701-720 East Main St. extended, Middletown, 04001404

MISSISSIPPI

Adams County

Ratcliffe Mound Site, Address Restricted, Washington, 04001406

NEBRASKA

Boyd County

Tower, The, Address Restricted, Lynch, 04001413

Cass County

Manley School, School Buildings in Nebraska MPS), 115 Cherry St., Manley, 04001414

Young Cemetery Cabin, Young Ln. E400, Plattsmouth, 04001408

Douglas County

Country Club Historic District, Roughly 50th to 56th Sts., Corby to Seward Sts., Omaha, 04001410

Omaha Ford Motor Company Assembly Plant, 1514-1524 Cuming St., Omaha, 04001412

Selby Apartments, 830 S. 37th St., 3710 Marcy St., 825 S. 37th Ave., Omaha, 04001411

West Lawn Mausoleum, 5701 Center St., Omaha, 04001409

Nemaha County

Legion Memorial Park, Generally bounded by 10th St., 11th St., H St., and J St., Auburn, 04001407

TEXAS

Gillespie County

Cave Creek School, 470 Cave Creek Rd.,

Fredericksburg, 04001415

Travis County

Cranfill, Thomas, House, 1901 Cliff St., Austin, 04001416

UTAH

Salt Lake County

Benworth—Chapman Apartments and Chapman Cottages (Salt Lake City MPS), 227 S 400 East, Salt Lake City, 04001417

Bigelow Apartments, (Salt Lake City MPS), 225 S 400 East, Salt Lake City, 04001418 Brady—Brady House,

(Sandy City MPS), 8395 South 1000 East, Sandy, 04001419

Vincent—Anderberg House, (Sandy City MPS), 28 E. Pioneer Ave., Sandy, 04001420

Wilson, William W. and Christene, House, (Sandy City MPS), 113 East 8680 South, Sandy, 04001421

Uintah County

Martin, Manfred and Ethel, House, (Vernal—Maeser, Utah MPS), 163 N. Vernal Ave., Vernal, 04001422

Washington School—Vernal LDS Relief Society Hall (Vernal—Maeser, Utah MPS), 270 North 500 West, Vernal, 04001423

A request for REMOVAL has been made for the following:

GUAM

Guam County

Guam Legislative Building Site 163 Chalan Santo Papa Juan Pablo Dos, Hagatna, 02001722

Ungacta House (Agana Houses TR), 334 Hernan Cortez, Agana, 85000409

[FR Doc. 04-27306 Filed 12-13-04; 8:45 am]

BILLING CODE 4312-51-P